DEPARTMENT OF TRANSPORTATION

Surface Transportation Board

[STB Finance Docket No. 27590 (Sub-No. 3)]

TTX Company, et al.—Application for Approval of Pooling of Car Service With Respect to Flatcars

AGENCY: Surface Transportation Board, Transportation.

ACTION: Notice of pooling application and request for public comments.

SUMMARY: On January 6, 2004, TTX Company (TTX) and certain participating railroads filed an application to extend for 15 years TTX's flatcar pooling authority, which the Board's predecessor, the Interstate Commerce Commission (ICC), originally granted in 1974, extended in 1989, and extended again in 1994. Unless further extended, TTX's current pooling authority under the ICC's 1994 order will expire on October 1, 2004.

DATES: Any comments on the application must be filed by March 22, 2004. If comments are filed, applicants' rebuttal is due by April 21, 2004. A decision on the merits of the application is due to be issued by September 1, 2004.

ADDRESSES: As required under 49 CFR 1104.3, commenting parties must file with the Board an original and 10 copies (and electronic copies as necessary) of their respective comments. Comments must refer to STB Finance Docket No. 27590 (Sub-No. 3) and be sent to: Surface Transportation Board, 1925 K Street, NW., Washington, DC 20423-0001. In addition, one copy of each comment must be sent to each of applicants' representatives: (1) David L. Meyer, Covington & Burling, 1201 Pennsylvania Avenue, NW., Washington, DC 20004; and (2) Patrick B. Loftus, TTX Company, 101 North Wacker Drive, Chicago, IL 60606.

FOR FURTHER INFORMATION CONTACT: Joseph H. Dettmar (202) 565-1600. (Assistance for the hearing impaired is available through the Federal Information Relay Service (FIRS) at 1-800-877-8339.)

SUPPLEMENTARY INFORMATION: TTX and the railroad applicants seek the Board's approval of a 15-year extension of their pooling of flatcar service. Under 49 U.S.C. 11322(a), the Board may approve a pooling agreement if it finds that the proposal: (1) Will be in the interest of better service to the public or of economy of operation, and (2) will not unreasonably restrain competition. The proposed pooling agreement was originally approved by the ICC in American Rail Box Car Co.—Pooling, 347 I.C.C. 862 (1974). In 1989, the ICC extended TTX's pooling authority for another five years. See Trailer Train Co.—Pooling—Car Service, 5 I.C.C.2d 552 (1989). The ICC last approved TTX's pooling agreement in 1994 for a 10-year term, which expires on October 1, 2004. See TTX Company et al.—Application for Approval of the Pooling of Car Service With Respect to Flat Cars, Finance Docket No. 27590 (Sub-No. 2) (ICC served August 31, 1994). The application seeks to extend TTX's authority to continue the flatcar pool under the same pooling agreement—with minor, technical updates—for an additional 15 years.

In addition to TTX, the applicants are:

The Burlington Northern and Santa Fe Railway Company;

CSX Transportation, Inc.;

Florida East Coast Railway Company;

Guilford Rail System;

Grand Trunk Western Railroad Company;

Illinois Central Railroad Company;

The Kansas City Southern Railway Company;

Norfolk Southern Railway Company;

Soo Line Railroad Company;

Union Pacific Railroad Company.

TTX also asks the Board to clarify that the requested pooling authority will encompass changes in TTX's car contracts and other policies that are within the scope of the Pooling Agreement and the extant limitations on TTX's authority to assign and allocate cars, without the need to seek additional advance Board approval.

Copies of the application are on file and may be examined at the offices of the Surface Transportation Board, Room 770, Washington, DC, or may be viewed on, and downloaded from, the Board's Web site at www.stb.dot.gov. Copies may also be obtained free of charge by contacting applicants' representative, Michael L. Rosenthal, (202) 662-5582. A copy of this notice will be served on the Department of Justice, Antitrust Division, 10th Street & Pennsylvania Avenue, NW., Washington, DC 20530.

Applicants contend that, because the proposed transaction does not involve any changes in rail operations or service to shippers, no environmental documentation is required, see 49 CFR 1105.6(c)(2)(ii), and no historic report is required, see 49 CFR 1105.8(b)(2).

Applicants have suggested that comments on the application be due within 60 days of the publication of this notice, with applicants' rebuttal due 45 days thereafter. However, the Board believes that an adjustment to the proposed procedural schedule is in order so that the written record may be developed sooner. Accordingly, comments will be due within 45 days of this notice, and applicants' rebuttal (if necessary) will be due 30 days thereafter. The adopted schedule should provide adequate time for commenting parties and the applicants to present their respective views. As provided in the instructions above, comments must be in writing, must be filed in accordance with 49 CFR 1104.3, and are due by March 22, 2004. Comments must contain the basis for the party's position either in support or opposition, and must contain the name and address of the commenting party. Applicants must be concurrently served with a copy of each comment. Any rebuttal by applicants must be filed with the Board by April 21, 2004.

This action will not significantly affect either the quality of the human environment or the conservation of energy resources.

Filings and Board decisions and notices are available on the Board's Web site at www.stb.dot.gov.

Decided: February 2, 2004.
By the Board, Vernon A. Williams, Secretary.
Vernon A. Williams,
Secretary.

[FR Doc. 04-2433 Filed 2-4-04; 8:45 am]

BILLING CODE 4915-00-P